Title 3—

The President

Proclamation 9700 of February 28, 2018

American Red Cross Month, 2018

By the President of the United States of America

A Proclamation

Since Clara Barton founded the American Red Cross in 1881, the organization has provided domestic disaster relief, assisted in international disaster relief, and supported the United States military in countless ways. Today, it is a renowned, life-saving force, supported by hundreds of thousands of volunteers and responsible for ensuring our Nation's blood supply is always at safe and sufficient levels. The American Red Cross also provides training and preparedness programs for Americans in safety-related fields and helps to connect our Nation's military service members with their families. During American Red Cross Month, we honor the organization's humanitarian mission, as well as its hard-working staff, dedicated volunteers, and generous supporters, whose donations are vital to sustaining the organization's operations.

The American Red Cross plays an indispensable role in our Nation's healthcare system, including as the single largest supplier of blood and blood products in the United States. These blood products are vital for accident and burn victims, patients with conditions that require repeated transfusions, and patients undergoing advanced treatments like heart surgery and cancer therapy. On average, the American Red Cross collects nearly 4.9 million units of blood each year from more than 2.8 million donors. These donations help meet the needs of patients at approximately 2,600 hospitals and transfusion centers across the country.

In addition to its healthcare mission, last year, the American Red Cross assisted millions of people affected by disasters in the United States and around the world. During a 45-day span, the organization responded to six of our Nation's largest and most complex disasters of 2017, including back-to-back hurricanes, the deadliest wildfires in California history, and the mass shooting in Las Vegas, Nevada. Globally, the American Red Cross provided aid to 26 countries in the aftermath of multiple natural disasters, including a drought and food crisis in Africa, the floods and migration crisis in Bangladesh, two earthquakes that shook Mexico just weeks apart, and floods and landslides in Nepal. The American Red Cross helped nearly 9,400 people search for loved ones separated from their families during these and other international calamities.

Since its founding, the American Red Cross has also served as a vital conduit between our great men and women of the military and their families and support networks back home. To help caregivers meet the daily challenge of providing for our wounded, ill, and injured service members and veterans, the Military and Veteran Caregiver Network provides peer support through online resources and community-based groups. And last year alone, through its Hero Care Network, the American Red Cross relayed more than 304,000 urgent messages to more than 79,000 service members and their families.

The dedicated staff members and volunteers of the American Red Cross make tremendous, positive contributions to both our Nation and the world. Their tireless endeavors truly deserve our unwavering respect, support, and gratitude.

NOW, THEREFORE, I, DONALD J. TRUMP, President of the United States of America and Honorary Chairman of the American Red Cross, by virtue of the authority vested in me by the Constitution and the laws of the United States, do hereby proclaim March 2018 as American Red Cross Month. I encourage all Americans to observe this month with appropriate programs, ceremonies, and activities, and to support the work of the American Red Cross and their local chapters.

IN WITNESS WHEREOF, I have hereunto set my hand this twenty-eighth day of February, in the year of our Lord two thousand eighteen, and of the Independence of the United States of America the two hundred and forty-second.

[FR Doc. 2018-04620

Filed 3-2-18; 11:15 am]

Billing code 3295-F8-P